FEDERAL COMMUNICATIONS COMMISSION

47 CFR Part 64

[CG Docket No. 17-59; WC Docket No. 17-97; FCC 23-18; FCC 23-37; FR ID 204126]

Advanced Methods To Target and Eliminate Unlawful Robocalls, Call Authentication Trust Anchor; Correction

AGENCY: Federal Communications Commission.

ACTION: Final rule; announcement of effective and compliance dates; correction.

SUMMARY: The Federal Communications Commission published a document in the Federal Register of January 25, 2024, announcing the effective dates of amendments to its non-internet Protocol call authentication and robocall mitigation database rules. The document contained an incorrect Federal Register citation and an incorrect compliance date.

DATES: This correction is effective March 4, 2024.

FOR FURTHER INFORMATION CONTACT: Erik Beith, Competition Policy Division, Wireline Competition Bureau, at (202) 418-0756, or email: erik.beith@fcc.gov.

SUPPLEMENTARY INFORMATION: In the document published January 25, 2024, at 89 FR 4833, announcing the effective dates of amendments to its non-internet Protocol call authentication and robocall mitigation database rules, an incorrect Federal Register citation and an incorrect compliance date appeared in DATES. The Federal Register citation for the publication of the amendments to 47 CFR 64.6303(c) (amendatory instruction 9) and 47 CFR 64.6305(d), (e), (f), and (g) (amendatory instruction 12) is corrected to 88 FR 40096. The compliance date for the regulations at 47 CFR 4.6305(g) is corrected to May 28, 2024.

Correction

In the Federal Register of January 25, 2024, in FR Doc. 2024-01167, on page 4833, in the first column, correct the DATES caption to read: “The amendments to 47 CFR 64.6303(c) (amendatory instruction 9) and 47 CFR 64.6305(d), (e), (f), and (g) (amendatory instruction 12), published at 88 FR 40096, June 21, 2023, and the amendments to 47 CFR 64.6305(d)(2)(ii) and (iii), (e)(2)(ii), and (f)(2)(iii) (amendatory instruction 5), published at 88 FR 43446, July 10, 2023, are effective February 26, 2024. The compliance date for 47 CFR 64.6305(g) is May 28, 2024.”

Federal Communications Commission.
Marlene Dortch,
Secretary.

[FR Doc. 2024-03987 Filed 3-1-24; 8:45 am]

BILLING CODE 6712-01-P